NUCLEAR REGULATORY COMMISSION

Consideration of License Amendment Request for the Nuclear Fuels Services, Inc., and Opportunity for Hearing

AGENCY: Nuclear Regulatory Commission.

ACTION: Notice of availability of Environmental Assessment and Finding of No Significant Impact and Opportunity to Request a Hearing on Amendment of Materials License SNM-124, Nuclear Fuel Services, Inc.

SUMMARY: The U.S. Nuclear Regulatory Commission is considering the amendment of Special Nuclear Material License SNM-124 at the Nuclear Fuel Services, Inc. facility located in Erwin, TN.

Environmental Assessment

1.0 Introduction

1.1 Background

The Nuclear Regulatory Commission (NRC) staff has evaluated the environmental impacts of the amendment request from Nuclear Fuel Services, Inc. (NFS) to change liquid effluent action levels and reporting commitments in Materials License SNM-124 in accordance with 10 CFR 20.1302. This Environmental Assessment (EA) has been prepared pursuant to the Council on Environmental Quality (CEQ) regulations (40 CFR Parts 1500-1508) and NRC regulations (10 CFR Part 51) which implement the requirements of the National Environmental Policy Act (NEPA) of 1969. The purpose of this document is to assess the environmental consequences of the proposed license amendment.

The NFS facility in Erwin, TN is authorized under SNM-124 to possess nuclear materials for the fabrication and assembly of nuclear fuel components. The facility produces nuclear fuel for the U.S. Naval Reactor Program. The principle operations include: (1) the processing of highly enriched uranium [greater than 90 weight percent ²³⁵U] into a classified fuel product; and (2) the processing of scrap materials containing highly enriched uranium (HEU) to recover uranium.

1.2 Review Scope

In accordance with 10 CFR Part 51, this EA serves to (1) present information and analysis for determining whether to issue a Finding of No Significant Impact (FONSI) or to prepare an Environmental Impact Statement (EIS); (2) fulfill the NRC's compliance with the National Environmental Policy Act (NEPA) when no EIS is necessary; and (3) facilitate preparation of an EIS if one is necessary. Should the NRC issue a FONSI, no EIS would be prepared and the license amendment would be granted.

1.3 Proposed Action

The proposed action is to amend NRC Materials License SNM-124 to change liquid effluent action levels and reporting commitments in accordance with 10 CFR 20.1302. Currently, NFS uses 20.1302(b)(2) to demonstrate compliance. NFS proposes to use 20.1302(b)(1) to demonstrate compliance.

1.4 Need for Proposed Action

Licensees are required to comply with the annual dose limits in 10 CFR 20.1301. The applicable dose limit in 20.1301(a)(1) states that the licensee shall conduct operations so that the total effective dose equivalent (TEDE) to individual members of the public from the license operation does not exceed 100 mrem in a year, exclusive of dose contribution from background radiation, from medical procedures, or from the licensee's disposal of radioactive material into sanitary sewerage. In accordance with 10 CFR 20.1302, compliance can be demonstrated by either of two ways: (1) the licensee can demonstrate, by measurement or calculation, that the TEDE to the individual likely to receive the highest dose from the licensed operation does not exceed the annual dose limit; or (2) the licensee may show that the annual average concentrations of radioactive material released in the gaseous and liquid effluents at the boundary of the restricted area do not exceed values specified in Table 2, “Effluent Concentrations,” of Appendix B to 10 CFR Part 20 in conjunction with other measurements.

Amending the NFS license to allow effluent discharge compliance to be reported as dose provides the licensee with the flexibility to continue operating the Waste Water Treatment Facility (WWTF) in case a sample is suspect and needs to be re-analyzed. NFS has previously demonstrated compliance with the annual dose limit in 10 CFR 20.1301 for releases to the Nolichucky River from the WWTF by meeting the concentration values in 10 CFR Part 20, Appendix B, Table 2. If a sample was suspected of exceeding the values in 10 CFR Part 20, the WWTF shut down until the sample was re-analyzed. NFS proposes to ensure compliance by demonstrating, through calculation, that the annual TEDE from liquid effluents will remain below 10 mrem to the maximally exposed off-site receptor.

1.5 Alternatives

The alternatives available to the NRC are:

Alternative 1—Deny the amendment request (no action alternative); or Alternative 2—Approve the license amendment request as submitted.

2.0 Affected Environment

The affected environment for Alternative 1 and Alternative 2 would be the NFS site, the Nolichucky River, and the near downstream area of the river. A full description of the affected area and its characteristics is given in the 1999 Environmental Assessment for the Renewal of the NRC license for NFS.

3.0 Effluent Releases and Monitoring

Effluents from the NFS facility include discharges of sanitary wastes to the City of Erwin sanitary sewer, effluents to air, and liquid effluents to Banner Spring Branch, Martin Creek, and the Nolichucky River. A full description of the NFS Environmental Monitoring Program is given in the 1999 Environmental Assessment for Renewal.

Alternative 1

The WWTF treats liquid effluents generated by the various site operations, including fuel production, low-enriched and high-enriched uranium recovery, mixed-waste treatment, laboratory operations, laundry, building decommissioning, and site remediation. These liquid waste streams are pH adjusted and ammonia is removed by a stripping tower or by breakpoint chlorination, as appropriate. Waste water is treated by lime precipitation to remove fluoride, uranium, and other metals. After the lime is precipitated, the waste water is filtered, neutralized, and discharged into the Nolichucky River through outfall 001, under the National Pollutant Discharge Elimination System (NPDES) permit. The precipitate is dewatered in a filter press, and the filter press cake is packaged for off-site disposal at a low-level waste disposal facility.

During operation of the WWTF, each batch is analyzed for gross alpha and gross beta radioactivity prior to discharge. Also, a monthly composite sample is analyzed for isotopes of uranium. The monthly composite is analyzed for other radionuclides if materials, in addition to uranium, are suspected to be present in process waste water at levels exceeding 10% of the concentration values in Appendix B, Table 2, Column 2, 10 CFR Part 20. The chemical parameters prescribed in the State of Tennessee NPDES permit are also analyzed at the frequency specified in the permit. Samples of the treated waste water are collected from the final neutralization or storage tank prior to discharge.

If an action level is exceeded, the following actions occur: (1) The Environmental Protection Function Manager and the responsible process engineering control personnel are notified, (2) an investigation is undertaken to identify the cause of the exceedance, and (3) appropriate corrective actions are initiated to reduce observed levels that are above the action levels, and to minimize the likelihood of a recurrence. No discharge is authorized by the NFS Environmental Protection Function Manager that would result in a 12 month average concentration exceeding the applicable level specified in 10 CFR Part 20, Appendix B, Table 2, Column 2. Corrective actions are documented. If necessary, the Environmental Protection Function manager may order processing activities in an area to be halted until appropriate corrective actions are implemented.

Alternative 2

Each calender quarter, WWTF liquid effluent data will be compiled and used to calculate the maximum concentration of radioactive materials at the location of the maximally exposed off-site receptor and the dose (TEDE) to the maximally exposed off-site receptor due to discharge of WWTF liquid effluents. This quarterly assessment will typically be completed within 60 days of receiving all sample results necessary to perform the assessment. If any sample results are pending, a preliminary assessment may be performed if necessary to meet the semi-annual reporting condition.

If the resulting TEDE to the maximally exposed off-site receptor exceeds 2.5 mrem/quarter, appropriate corrective action will be identified and implemented to reduce future dose levels. Each calender quarter, the dose for the four previous (consecutive) quarters will be calculated. If the calculated TEDE to any member of the public for this four quarter period exceeds the 10 mrem per year action level, NFS will implement corrective actions and the NRC will be notified of the event, in writing, within 30 days.

Assessment of the maximum concentration and TEDE to the maximally exposed off-site receptor will be performed using: (1) National Council on Radiation Protection and Measurements (NCRP) Report No. 123, “Screening Models for Releases of Radionuclides to Atmosphere, Surface Water, and Ground,” or (2) pathway analysis models that consider all exposure pathways and accurately reflect site conditions and simulate exposure to members of the public. Site-specific characteristics of the surface waters receiving liquid effluents will be accurately assessed. NFS will follow written procedures to perform these calculations. Parameter values will be based on information contained in NCRP Report No. 123, data collected during the assessment period, publicly available information (e.g., stream flow data compiled by the U.S. Geological Survey), previous monitoring history, or the professional judgement of the NFS Environmental Protection Function Manager.

In accordance with 10 CFR 70.59, NFS is required to submit a semi-annual effluent report. If the semi-annual average activity concentration for WWTF effluents exceed concentrations listed in 10 CFR Part 20, Appendix B, Table 2, Column 2, results of an assessment of the TEDE to the maximally exposed off-site receptor from these effluents will be included in the semi-annual effluent report to the NRC.

4.0 Environmental Impacts of Proposed Action and Alternatives

4.1 Public Health

Alternative 1

The impacts of normal operation are provided in the 1999 Environmental Assessment for the Renewal of the NRC license for NFS. The analysis assumes that an individual along the Nolichucky River and the surrounding population out to a distance of 50 miles uses this potentially contaminated water. Liquid-release exposure pathways include ingestion of drinking water, fish, and irrigated crops and external exposure during recreational activities. The total effective dose estimate (TEDE) for the maximally exposed individual was estimated as 0.10 mrem/yr from liquid releases.

Alternative 2

NFS is proposing a maximum TEDE of 10 mrem/yr for liquid releases. This is 10% of the 10 CFR Part 20 limit of 100 mrem/yr from all pathways. NFS’ commitment to a 10 mrem action level will provide reasonable assurance that the facility will continue to operate within the regulatory limits.

4.2 Occupational Health

Alternative 1 and Alternative 2

The dose to the workers at the NFS site has been analyzed in the Safety Evaluation Report for the Renewal, dated July 2, 1999. This dose will not increase as a result of Alternative 2 because there will be no changes to the treatment process. NFS is committed to keeping doses as low as reasonable achievable (ALARA) by maintaining a radiation protection program that minimizes radiation exposures and releases of radioactive material to the environment.

4.3 Water Resources and Biota

Alternative 1 and Alternative 2

Liquid effluents are released directly or indirectly into the Nolichucky River. Small creeks receiving portions of the liquid discharge, Banner Spring Branch and Martin Creek, are not used as a drinking water supply for area residents. The nearest drinking water intake on the Nolichucky River is 8 miles downstream from the NFS outfall (NFS, 1996). Since the amount of radioactivity entering Banner Spring Branch, Martin Creek and the Nolichucky River does not exceed the allowable limits in 10 CFR Part 20 for either alternative, there will be no significant impact on water quality or biota. NFS will continue to meet the requirements for effluent discharge in their NPDES permit.

4.4 Geology, Soils, Air Quality, Demography, Cultural and Historic Resources

Alternative 1 and Alternative 2

The NRC staff has determined that the neither alternative will impact geology, soils, air quality, demography, or cultural or historic resources at or near the NFS site. A full description of these parameters is given in the 1999 Environmental Assessment for Renewal.

4.5 Alternatives

The action that the NRC is considering is approval of an amendment request to a Materials license issued pursuant to 10 CFR Part 70. The proposed action is to amend NRC Materials License SNM-124 to change liquid effluent action levels and reporting commitments in accordance with 10 CFR 20.1302. The alternatives available to the NRC are:

1. Deny the amendment request; or

2. Approve the license amendment request as submitted.

Based on its review, the NRC staff has concluded that the environmental impacts associated with the proposed action are minimal. Although the TEDE might increase from 0.010 mrem to 10 mrem for the liquid release pathway, there is reasonable assurance that the 10 CFR 20.1301 dose limit of 100 mrem/yr from all pathways will not be exceeded. The staff considers that Alternative 2 is the appropriate alternative for selection and recommends approval of the license amendment.

5.0 Agencies and Persons Contacted

The NRC contacted a representative from the State of Tennessee, Department of Health in correspondence dated August 10, 2000. The State had no comments.

6.0 References

Nuclear Fuel Services, Inc., December, 1999, “Environmental Report for Renewal of Special Nuclear Material License No. SNM-124.”

U.S. Nuclear Regulatory Commission (NRC), January, 1999, “Environmental Assessment for Renewal of Special Nuclear Material License SNM-124.”

U.S. Nuclear Regulatory Commission (NRC), July 2, 1999, “Safety Evaluation Report for the Renewal of Special Nuclear Material License SNM-124 for Nuclear Fuel Services, Inc.”

7.0 Conclusions

Based on an evaluation of the environmental impacts of the amendment request, the NRC has determined that the proper action is to issue a FONSI in the Federal Register. The NRC staff considered the environmental consequences of amending NRC Materials License SNM-124 to change liquid effluent action levels and reporting commitments in accordance with 10 CFR 20.1302, and have determined that the approval of this request will have no significant effect on public health and safety or the environment.

Finding of No Significant Impact

The Commission has prepared an Environmental Assessment related to the amendment of Special Nuclear Material License SNM-124. On the basis of the assessment, the Commission has concluded that environmental impacts associated with the proposed action would not be significant and do not warrant the preparation of an Environmental Impact Statement. Accordingly, the Commission is making a Finding of No Significant Impact.

The Environmental Assessment and the documents related to this proposed action are available for public inspection and copying at the Commission's Public Document Room at 11555 Rockville Pike, Rockville, Maryland between 7:30 a.m. and 4:15 p.m. on federal workdays.

Opportunity for a Hearing

Based on the Environmental Assessment and Finding of No Significant Impact, and a staff safety evaluation to be completed, NRC is preparing to amend License SNM-124. The NRC hereby provides that this is a proceeding on an application for amendment of a license falling within the scope of Subpart L, “Informal Hearing Procedures for Adjudication in Materials Licensing Proceedings,” of NRC's rules and practice for domestic licensing proceedings in 10 CFR Part 2. Pursuant to Section 2.1205(a), any person whose interest may be affected by this proceeding may file a request for a hearing in accordance with Section 2.1205(d). A request for a hearing must be filed within thirty (30) days of the date of publication of this Federal Register notice.

A request for hearing or petition for leave to intervene must be filed with the Secretary of the Commission, U.S. Nuclear Regulatory Commission either:

1. By delivery to the Rulemakings and Adjudications Staff of the Secretary at One White Flint North, 11555 Rockville Pike, Rockville, MD 20852-2738; or

2. By mail or telegram addressed to the Secretary, U.S. Nuclear Regulatory Commission, Washington, DC 20555-0001. Attention: Rulemakings and Adjudications Staff.

In addition to meeting other applicable requirements of 10 CFR Part 2 of the NRC's regulations, a request for a hearing filed by a person other than an applicant must describe in detail:

1. The interest of the requester in the proceeding;

2. How that interest may be affected by the results of the proceeding, including the reasons why the requestor should be permitted a hearing, with particular reference to the factors set out in Section 2.1205(h).

3. The requester's areas of concern about the licensing activity that is the subject matter of the proceeding; and

4. The circumstances establishing that the request for a hearing is timely in accordance with Section 2.1205(d).

In accordance with 10 CFR Section 2.1205(f), each request for a hearing must also be served, by delivering it personally or by mail to:

1. The applicant, Nuclear Fuel Services ; and

2. The NRC staff, by delivering it to the Executive Director for Operations, One White Flint North, 11555 Rockville Pike, Rockville, MD 20852, or by mail, addressed to the Executive Director for Operations, U.S. Nuclear Regulatory Commission, Washington, DC 20555.

The NRC contact for this licensing action is Mary Adams. Ms. Adams may be contacted at (301) 415-7249 or by e-mail at mta@nrc.gov for more information about this licensing action.

Dated at Rockville, Maryland, this 4th day of October, 2000.
For the Nuclear Regulatory Commission.
Philip Ting,
Chief, Fuel Cycle Licensing Branch, Division of Fuel Cycle Safety and Safeguards, Office of Nuclear Material Safety and Safeguards.

[FR Doc. 00-26010 Filed 10-10-00; 8:45 am]

BILLING CODE 7590-01-P